DEPARTMENT OF THE INTERIOR

Geological Survey

[GWXXRB000AP8100; OMB Control Number 1028-0107/Renew]

Agency Information Collection Activities; Submission to the Office of Management and Budget for Review and Approval; Economic Contribution of Federal Investments in Restoration of Degraded, Damaged, or Destroyed Ecosystems

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before November 4, 2019.

ADDRESSES: Send written comments on this information collection request (ICR) to the Office of Management and Budget's Desk Officer for the Department of the Interior by email at OIRA_Submission@omb.eop.gov; or via facsimile to (202) 395-5806. Please provide a copy of your comments to U.S. Geological Survey, Information Collections Officer, 12201 Sunrise Valley Drive MS 159, Reston, VA 20192; or by email to gs-info_collections@usgs.gov. Please reference OMB Control Number 1028-0107 in the subject line of your comments.

FOR FURTHER INFORMATION CONTACT: To request additional information about this ICR, contact Rudy Schuster by email at schusterr@usgs.gov, or by telephone at 970.226.9165. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 11, 2019 (84 FR 27154). No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Federal investments in ecosystem restoration restore injured natural resources and improve the health and resiliency of terrestrial, freshwater, and marine ecosystems. These investments also generate business activity and create jobs. The Economic Impacts of Ecosystem Restoration project aims to increase the availability of information on the costs and activities associated with ecosystem restoration and to gauge the economic effects of these investments to local economies. Researchers with the U.S. Geological Survey (USGS) and the DOI Office of Policy Analysis are conducting this information collection at the request of the Natural Resource Damage Assessment (NRDA) Restoration Program. The NRDA Restoration Program is weighing the pros and cons of collecting restoration cost data as part of contractor reporting requirements for restoration projects associated with NRDA cases. The collection described under this request is designed to refine potential expenditure questions prior to developing contractor reporting requirements. The project comprises a series of case studies that quantify the economic impacts of restoration projects. The case studies include examples of collaboratively funded and managed projects to restore a wide range of degraded, damaged, or destroyed ecosystems. Project methods include the collection of primary expenditure data and economic input/output modeling. Results from the first phase of case studies are available in a 2016 USGS report entitled, “Estimating the economic impacts of ecosystem restoration—methods and case studies.” This second phase of case studies aims to refine the survey methods and to develop and test a Web-based data collection form that would enable broader collection of project expenditure data.

Title of Collection: Economic Contribution of Federal Investments in Restoration of Degraded, Damaged, or Destroyed Ecosystems.

OMB Control Number: 1028-0107.

Form Number: None.

Type of Review: Extension of a currently approved collection.

Respondents/Affected Public: Restoration project managers working on selected case study restoration projects; this includes project managers from state and local government, non-profits, and the private sector.

Total Estimated Number of Annual Respondents: 6.

Total Estimated Number of Annual Responses: 6.

Estimated Completion Time per Response: 120 minutes.

Total Estimated Number of Annual Burden Hours: 12 hours.

Respondent's Obligation: Voluntary.

Frequency of Collection: One time.

Total Estimated Annual Nonhour Burden Cost: There are no “non-hour cost” burdens associated with this collection of information.

An agency may not conduct or sponsor and a person is not required to respond to a collection of information unless it displays a currently valid OMB control number.

The authority for this action is the Paperwork Reduction Act of 1995 (44 U.S.C. 3501 et seq).

Rudolph Schuster,
Social and Economic Science Branch Chief, Fort Collins Science Center Director.

[FR Doc. 2019-21489 Filed 10-2-19; 8:45 am]

BILLING CODE 4338-11-P